FEDERAL COMMUNICATIONS COMMISSION

[OMB 3060-1250; FR ID 185293]

Information Collection Being Reviewed by the Federal Communications Commission Under Delegated Authority

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before January 19, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION:

OMB Control Number: 3060-1250.

Title: Sections 15.37(k), 74.851(k), and 74.851(l), Consumer Disclosure and Labeling.

Form Number: N/A.

Type of Review: Extension of a currently approved collection.

Respondents: Individuals or households, Business or other for-profit, and Not-for-profit institutions.

Number of Respondents and Responses: 100 respondents; 2,500 responses.

Estimated Time per Response: 0.25 hours.

Frequency of Response: Third party disclosure requirement (disclosure and labeling requirement).

Obligation to Respond: Required to obtain or retain benefits. Statutory authority for this collection of information is contained in 47 U.S.C. 151, 154(i), 154(j), 301, 302a, 303(f), 303(g), and 303(r).

Total Annual Burden: 625 hours.

Total Annual Cost: $62,500.

Needs and Uses: The Commission will submit this information collection as an extension to the Office of Management and Budget (OMB) after this 60-day comment period to obtain the full three-year clearance from them.

The labeling requirement is applicable to persons who manufacture, sell, lease, or offer for sale or lease, wireless microphone or video assist devices to the extent that these devices are capable of operating on the specific frequencies associated with the 600 MHz service band (617-652 MHz/663-698 MHz). The Commission recognized that a requirement for consumer disclosure at the point of sale or lease that was previously part of this information collection no longer affects any party since wireless microphone users must have ceased any wireless microphone operations in the 600 MHz service band.

Federal Communications Commission.
Marlene Dortch,
Secretary, Office of the Secretary.

[FR Doc. 2023-25520 Filed 11-17-23; 8:45 am]

BILLING CODE 6712-01-P